NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 21, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-028

1. Applicant: Ari Friedlaender, Hattfield Marine Science Center, Oregon State University

Activity for Which Permit Is Requested

Take and Import to the USA; The applicants propose to collect skin and blubber biopsy samples of minke, humpback and Arnoux's beaked whales. The applicants would address the following basic hypotheses that require collecting of genetic and blubber samples from biopsies. They will investigate the stock structure of whales that inhabit the nearshore waters of the AP which requires genetic information contained in skin samples. These samples can be processed and compared against voucher samples from breeding populations in the Pacific Ocean to determine the population structure of animals feeding in Antarctic waters. Likewise, the sex of individual whales can be determined from genetic markers from the skin samples. Knowing the ratios of males: females can provide information about the growth and structure of the cetacean communities. In order to understand the diet of different marine mammals and if/how these change spatially or over the course of a season, we can compare the stable isotope signatures in blubber to those of their known prey items. This common analysis is potent and can greatly inform studies on the feeding behavior of whales in the region. The applicants would use standard dart-biopsy methods that have been used for more than 2 decades and are proven to be both humane and appropriate. A small sterilized stainless steel tip would be attached to the end of a customized crossbow bolt that has a flotation stopper engineered on to it. When the dart hits the whale, it penetrates the outermost skin and collects a ~10x5 mm sample of both skin and blubber. These samples are placed in sterilized cryovials and kept in -20C freezers until they are shipped frozen back to our labs for analysis. All samples would be collected by investigators with significant experience in the process.

Location

Antarctic Peninsula between Marguerite Bay and the Gerlache Strait, inshore waters.

Dates

January 15, 2014 to December 31 2014.

Nadene G. Kennedy,
Polar Coordination Specialist, Division of Polar Programs.

[FR Doc. 2013-30210 Filed 12-18-13; 8:45 am]

BILLING CODE 7555-01-P